DEPARTMENT OF HOMELAND SECURITY

Coast Guard

[USCG-2005-22040]

Chemical Transportation Advisory Committee; Charter Renewal

AGENCY: Coast Guard, DHS.

ACTION: Notice of charter renewal.

SUMMARY: The Secretary of Homeland Security has renewed the charter for the Chemical Transportation Advisory Committee (CTAC) for 2 years from July 5, 2005, until July 5, 2007. CTAC is a Federal advisory committee under 5 U.S.C. App. 2 (Pub. L. 92-463, 86 Stat. 770). It advises the Coast Guard on safe and secure transportation and handling of hazardous materials in bulk on U.S.-flag vessels and barges in U.S. ports and waterways.

ADDRESSES: You may request a copy of the charter by writing to Commandant (G-MSO-3), U.S. Coast Guard, 2100 Second Street SW., Washington, DC 20593-0001; by calling 202-267-1217; or by faxing 202-267-4570. This notice and the charter are available on the Internet at http://dms.dot.gov in docket (USCG-2005-22040).

FOR FURTHER INFORMATION CONTACT: Commander Robert Hennessy, Executive Director of CTAC, or Ms. Sara S. Ju, Assistant to the Executive Director, telephone 202-267-1217, fax 202-267-4570.

Dated: August 3, 2005.
Howard L. Hime,
Acting Director of Standards, Marine Safety, Security, and Environmental Protection.

[FR Doc. 05-15782 Filed 8-9-05; 8:45 am]

BILLING CODE 4910-15-P